DEPARTMENT OF THE INTERIOR

National Park Service

[NPS-WASO-NRNHL-19523; PPWOCRADI0, PCU00RP14.R50000]

National Register of Historic Places; Notification of Pending Nominations and Related Actions

AGENCY: National Park Service, Interior.

ACTION: Notice.

SUMMARY: The National Park Service is soliciting comments on the significance of properties nominated before October 3, 2015, for listing or related actions in the National Register of Historic Places.

DATES: Comments should be submitted by November 12, 2015.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before October 3, 2015. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

COLORADO

Delta County

Bross Hotel, 312 Onarga Ave., Paonia, 15000780

DISTRICT OF COLUMBIA

District of Columbia

Tilden Hall, (Apartment Buildings in Washington, DC, MPS), 3945 Connecticut Ave. NW., Washington, 15000781

FLORIDA

Alachua County

Branch, Dan, House, 5707 SW. 17 Dr., Gainesville, 15000782

Lake County

Hill Crest, 511 E. Mirror Lake Dr., Fruitland Park, 15000783

Lee County

Cabbage Key Historic District, (Lee County MPS), Intracoastal Waterway Marker 60 in Pine Island Sound; Box 200, Pineland, 15000784

Volusia County

Meyer—Davis House—Hasty Cottage, 143 Beach St., Ponce Inlet, 15000786

IOWA

Dubuque County

Fenelon Place Residential Historic District, (Dubuque, Iowa MPS), Hill St., 3 & 5th Sts., W., Fenelon Pl., Fenelon Place Elevator, Dubuque, 15000787

MINNESOTA

Crow Wing County

Kenney Lake Overlook, (Federal Relief Construction in Minnesota, 1933-1943), MN 18, 900 ft. SW. of N. Kenney Lake Ln., Garrison, 15000789

St. Alban's Bay Culvert at Mille Lacs Lake, (Federal Relief Construction in Minnesota, 1933-1943), MN 169, 800 ft. N. of Cty. Rd. 26, Garrison, 15000788

Fillmore County

Inspiration Point Wayside Rest, (Federal Relief Construction in Minnesota, 1933-1943), MN 16, 16.2 mi. SW. of Cty. Rd. 21, Lanesboro, 15000790

Hennepin County

Strutwear Knitting Company Building, 1010 S. 7th St., Minneapolis, 15000791

NEBRASKA

Douglas County

10th and Pierce Car Barn, 1100 Pierce St., Omaha, 15000792

Polish Home, The, 4701 S 25th St., Omaha, 15000793

Lancaster County

Wesleyan Hospital and Nurses Training School, 2742 N. 48th St., Lincoln, 15000794

Washington County

Engineer Cantonment, Address Restricted, Ft. Calhoun, 15000795

NEVADA

Churchill County

Douglass—Frey Ranch, (Architecture of Frederick J. DeLongchamps TR), 1075 Dodge Ln., Fallon, 15000796

NEW JERSEY

Essex County

Orange Memorial Hospital Historic District, 180 S. Essex Ave., Orange, 15000797

Hunterdon County

Headquarters Historic District (Boundary Increase), Rosemont-Ringoes & Zentek Rds., Delaware Township, 15000798

NEW YORK

Erie County

Parkside Candy Shoppe and Factory, 3208 Main St., Buffalo, 15000799

Greene County

Christ Church, 11228 NY 32, Greenville, 15000800

Nassau County

Rockville Cemetery and Bristol and Mexico Monument, 45 Merrick Rd., Lynbrook, 15000801

Schuyler County

Coon Family Log Cabin, 2245 Hornby Rd., Beaver Dams, 15000802

Steuben County

Lincoln School, 373 Canisteo Ave., Hornell, 15000803

NORTH CAROLINA

Carteret County

U-352 (submarine) shipwreck and remains, (World War II Shipwrecks along the East Coast and Gulf of Mexico MPS), Offshore, Beaufort, 15000804

Dare County

U-701 (submarine) shipwreck and remains, (World War II Shipwrecks along the East Coast and Gulf of Mexico MPS), Offshore, Buxton, 15000806

U-85 (submarine) shipwreck and remains, (World War II Shipwrecks along the East Coast and Gulf of Mexico MPS), Offshore, Nags Head, 15000805

NORTH DAKOTA

McIntosh County

Ashley Jewish Homesteaders Cemetery, 48th Ave., SE., Ashley, 15000807

SOUTH CAROLINA

Richland County

Alta Vista—Camp Fornace—Newman Park Historic District, Bounded by Lakewood Ave., Seaboard Airline RR., Earlewood & Marshall, Parks, Northwood, Park, Lindsay & Marlboro Sts., Columbia, 15000808

VIRGINIA

Warren County

Rockland Rural Historic District, Roughly bounded by Clarke Co. line, Shenandoah R., Winchester Rd. & Norfolk Southern RR., Front Royal, 15000809

Waynesboro Independent City, Virginia Metalcrafters Historic District, 1010 E. Main St., Waynesboro (Independent City), 15000810

WISCONSIN

Milwaukee County

APPOMATTOX (shipwreck) (Boundary Increase II), 150 yds. off Atwater Beach, Shorewood, 15000811

A request for removal has been received for the following resources:

NEBRASKA

Pawnee County

Cincinnati Bridge, (Highway Bridges in Nebraska MPS), Closed Co. Rd. over S. Fk. Big Nemaha R., 1 mi. S, .2 mi. E., of Du Bois Du Bois, 92000719

Richardson County

Rulo Bridge, (Highway Bridges in Nebraska MPS), US 159 over the Missouri R., Rulo, 92000718

Authority: 60.13 of 36 CFR part 60

Dated: October 6, 2015.
Roger Reed,
Acting Chief, National Register of Historic Places/National Historic Landmarks Program.

[FR Doc. 2015-27384 Filed 10-27-15; 8:45 am]

BILLING CODE 4312-51-P